DEPARTMENT OF ENERGY

National Nuclear Security Administration

Proposed Agency Information Collection

AGENCY: National Nuclear Security Administration, U.S. Department of Energy.

ACTION: Notice and request for comments.

SUMMARY: The Department of Energy (DOE) invites public comment on a proposed collection of information that DOE is developing for submission to the Office of Management and Budget (OMB) pursuant to the Paperwork Reduction Act of 1995. This proposed collection would be for use of the American Assured Fuel Supply. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 26, 2013. If you anticipate difficulty in submitting comments within that period, contact the person listed in ADDRESSES as soon as possible.

ADDRESSES: Written comments may be sent to Rich Goorevich, Senior Policy Advisor, Office of Nonproliferation and International Security, National Nuclear Security Administration, U.S. Department of Energy, 1000 Independence Ave. SW., Washington DC 20585, or by fax at 202-586-1348, or by email at Richard.Goorevich@NNSA.DOE.GOV.

FOR FURTHER INFORMATION CONTACT: Requests for additional information or copies of the information collection instrument and instructions should also be directed to Rich Goorevich, Senior Policy Advisor, Office of Nonproliferation and International Security, National Nuclear Security Administration, U.S. Department of Energy, 1000 Independence Ave. SW., Washington DC 20585, or by fax at 202-586-1348, or by email at Richard.Goorevich@NNSA.DOE.GOV.

SUPPLEMENTARY INFORMATION: This information collection request contains: (1) OMB No. {“New”}; (2) Information Collection Request Title: The American Assured Fuel Supply Program; (3) Type of Request: New; (4) Purpose: The U.S. Department of Energy (DOE) created the American Assured Fuel Supply (AFS), a reserve of low enriched uranium (LEU) to serve as a backup fuel supply for foreign recipients to be supplied through U.S. persons or for domestic recipients, in the event of a fuel supply disruption. DOE is committed to making the AFS available to eligible recipients in the case of supply disruptions in the nuclear fuel market. This effort supports the United States Government's nuclear nonproliferation objectives by supporting civilian nuclear energy development while minimizing proliferation risks. DOE published a Notice of Availability for the AFS on August 18, 2011, and now needs to publish an application to clarify the information that must be provided in a request to access the material in the AFS as set forth in the Notice of Availability. 76 FR 51357, 51358. This application form is necessary in order for DOE to identify if applicants meet basic requirements for use of the AFS and implement this important nonproliferation initiative; (5) Annual Estimated Number of Respondents: 10; (6) Annual Estimated Number of Total Responses: 1; (7) Annual Estimated Number of Burden Hours: 8; (8) Annual Estimated Reporting and Recordkeeping Cost Burden: $1,600.

Statutory Authority: The Secretary of Energy is authorized pursuant to the Atomic Energy Act of 1954, as amended (Pub. L. 83-703), and the Nuclear Non-Proliferation Act of 1978 (NNPA) (Pub. L. 95-242) to encourage the widespread use of atomic energy for peaceful purposes, and to enter into and distribute nuclear material in cooperation with other nations where appropriate safeguard measures are in place to ensure the material is properly controlled and used for peaceful purposes. In 2005, DOE set aside a portion of its LEU inventory to be used to support the International Atomic Energy Agency's (IAEA) International Nuclear Fuel Bank (INFB) initiative, which is envisioned as an LEU reserve that will be administered by the IAEA and that will serve as a back-up for global supply disruptions. Congress later appropriated $49,540,000 in the Consolidated Appropriations Act, 2008 (Pub. L. 110-161) to fund a portion of the INFB. Congress, in the Explanatory Statement accompanying the House Appropriations Committee Print (which in this Act was given the same effect as a joint explanatory statement), noted that the INFB freed up DOE's LEU set-aside, and recommended DOE also “allow U.S. interests to purchase uranium fuel from the Reliable Fuel Supply [now the AFS] in the event of supply disruption.” (H. Approp. Cmte. Print at 592.)

The sale of LEU from the AFS will be conducted consistent with applicable law, the policies and guidance in the “Secretary of Energy's 2008 Policy Statement on Management of Department of Energy's Excess Uranium Inventory” (March 11, 2008), and the DOE Excess Uranium Inventory Management Plan.

Issued in Washington, DC, on January 15, 2013.
Andrew Bieniawski,
Acting Principal Assistant Deputy Administrator, Defense Nuclear Nonproliferation, National Nuclear Security Administration, U.S. Department of Energy.

[FR Doc. 2013-01525 Filed 1-24-13; 8:45 am]

BILLING CODE 6450-01-P